ENVIRONMENTAL PROTECTION AGENCY

40 CFR Part 81

[EPA-HQ-OAR-2007-0562; EPA-HQ-OAR-2010-0163; FRL-9261-3]

RIN-2060-AQ30

Additional Air Quality Designations for the 2006 24-Hour Fine Particle National Ambient Air Quality Standards, 110(k)(6) Correction and Technical Correction Related to Prior Designation, and Decisions Related to the 1997 Air Quality Designations and Classifications for the Annual Fine Particles National Ambient Air Quality Standards

Correction

In rule document 2011-2269 appearing on pages 6056-6066 in the issue of Thursday, February 3, 2011, make the following corrections:

§ 81.303 [Table Corrected]

1. On page 6064, in the table for Arizona, in the last row, in the last column labeled “Type”, “Unclassifiable/Attainment” should read “................”.

2. On page 6065, in the table for Arizona, in the first row, in the last column labeled “Type”, “Unclassifiable/Attainment” should read “................”.

[FR Doc. C1-2011-2269 Filed 3-17-11; 8:45 am]

BILLING CODE 1505-01-D